DEPARTMENT OF ENERGY

Federal Energy Regulatory Commission

[Project No. 4784-106]

Topsham Hydro Partners Limited Partnership; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 4784-106.

c. Date filed: August 31, 2020.

d. Applicant: Topsham Hydro Partners Limited Partnership.

e. Name of Project: Pejepscot Hydroelectric Project.

f. Location: On the Androscoggin River in Sagadahoc, Cumberland, and Androscoggin Counties in the village of Pejepscot and the town of Topsham, Maine. The project does not affect federal lands.

g. Filed Pursuant to: Federal Power Act 16 U.S.C. 791(a)-825(r).

h. Applicant Contact: Mr. Tom Uncher, Vice President, Topsham Hydro Partners Limited Partnership, 339B Big Bay Rd, Queensbury, NY 12804, Telephone: 1-518-743-2018, Thomas.Uncher@brookfieldrenewable.com.

i. FERC Contact: Ryan Hansen, Telephone (202) 502-8074, and email ryan.hansen@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-4784-106.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The existing Pejepscot Project consists of: (1) A 560-foot-long, 47.5-foot-high rock and gravel-filled, timber crib dam that is topped with a 5-foot-thick reinforced concrete slab; (2) a spillway consisting of five, 96-foot-long by 3-foot-high steel bascule gates; (3) a 225-acre, 3 mile-long reservoir at an elevation of 67.5 feet mean sea level (MSL); (4) a 97-foot-wide, 146-foot-long brick masonry and concrete original powerhouse integral with the dam and containing three horizontal Francis turbine-generator units with a combined rated capacity of approximately 1.58 megawatts (MW); (5) a 60-foot-wide by 115-foot-long concrete newer powerhouse also integral with the dam southeast of the original powerhouse and containing a Kaplan turbine and a generator with a rated capacity of approximately 12.3 MW; (6) a vertical lift upstream fish passage facility consisting of a 20-foot-long, 7-foot-wide steel hopper with a sloping bottom and an 8-inch-wide, 8-foot-high V-trap inlet, a 6-foot-wide, 8-foot-high, 110-foot-long metal flume, four attraction pumps with a combined capacity of 160 cubic feet per second (cfs) and a viewing window; (7) a downstream fish passage facility consisting of two 4-foot-wide steel entry weirs with grizzly racks that pass fish through a 30-inch-diameter, 185-foot-long and a 24-inch-diameter, 60-foot-long outlet pipe; (8) a tailrace with a bulkhead-like gate that discharges water into the Androscoggin River approximately 25 feet downstream of the powerhouses; (9) two 900-foot-long, 15-kilovolt cable connections to substations located north and south of the powerhouses, respectively; and (10) appurtenant facilities.

The project is operated in a run-of-river mode with an average annual generation of 68.5 megawatt-hours.

m. In addition to publishing the full text of this document in the Federal Register, the Commission provides all interested persons an opportunity to view and/or print the contents of this document via the internet through the Commission's website at http://www.ferc.gov using the “eLibrary” link. Enter the docket number excluding the last three digits in the docket number field to access the document (i.e., P-4784). At this time, the Commission has suspended access to the Commission's Public Reference Room, due to the proclamation declaring a National Emergency concerning the Novel Coronavirus Disease (COVID-19), issued by the President on March 13, 2020. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following revised Hydro Licensing Schedule. Revisions to the schedule may be made as appropriate.

(For projects with draft and final NEPA documents):

Milestone | Target date
Filing of recommendations, preliminary terms and conditions, and preliminary fishway prescriptions | June 2021.
Commission issues Draft EA or EIS | December 2021.
Comments on Draft EA or EIS | January 2022.
Modified Terms and Conditions | March 2022.
Commission Issues Final EA or EIS | June 2022.

p. Final amendments to the application must be filed with the Commission no later than 30 days from the issuance date of this notice.

q. The applicant must file no later than 60 days following the date of issuance of this notice: (1) A copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

Dated: April 19, 2021.
Kimberly D. Bose,
Secretary.

[FR Doc. 2021-08520 Filed 4-22-21; 8:45 am]

BILLING CODE 6717-01-P